SURFACE TRANSPORTATION BOARD

[Docket No. FD 36305]

Indiana Eastern Railroad, LLC—Lease and Operation Exemption—CSX Transportation, Inc.

Indiana Eastern Railroad, LLC (IERR), a Class III carrier, has filed a verified notice of exemption under 49 CFR 1150.41 for an extension of its lease from CSX Transportation, Inc. (CSXT), for operation of a 43-mile rail line between milepost CI 61.9 at or near Richmond, Ind., and milepost CI 18.9 at or near Fernald, Ohio, in Wayne, Union, and Franklin Counties, Ind., and Butler and Hamilton Counties, Ohio (the Line).¹ The verified notice states that IERR and CSXT have agreed to extend the expiration date of their lease from August 25, 2025, to May 6, 2029. IERR will continue to operate the Line and CSXT will remain as owner of the Line.

¹ In 2005, IERR obtained authority to lease and operate the Line. Ind. E. R.R.—Lease & Operation Exemption—CSX Transp., Inc., FD 34727 (STB served Aug. 19, 2005).

IERR certifies that the projected annual rail revenues of IERR as a result of the proposed transaction will not exceed $5 million and that the transaction will not result in the creation of a Class II or a Class I rail carrier. IERR states that the proposed transaction does not involve an interchange commitment.

The earliest this transaction may be consummated is June 14, 2019, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than June 7, 2019 (at least seven days before the exemption becomes effective).

All pleadings, referring to Docket No. FD 36305, must be filed with the Surface Transportation Board either via e-filing or in writing addressed to 395 E Street SW, Washington, DC 20423-0001. In addition, a copy of each pleading must be served on IERR's representative, Thomas F. McFarland, Thomas F. McFarland, P.C., 208 South LaSalle Street, Suite 1666, Chicago, IL 60604-1228.

According to IERR, this action is exempt from environmental review under 49 CFR 1105.6(c) and from historic reporting requirements under 49 CFR 1105.8(b).

Board decisions and notices are available at www.stb.gov.

Decided: May 28, 2019.
By the Board, Allison C. Davis, Acting Director, Office of Proceedings.
Tammy Lowery,
Clearance Clerk.

[FR Doc. 2019-11409 Filed 5-30-19; 8:45 am]

BILLING CODE 4915-01-P